DEPARTMENT OF COMMERCE

National Oceanic and Atmospheric Administration

[I.D. 062300E]

Marine Mammals; Scientific Research Permit (978-1567-00)

AGENCY: National Marine Fisheries Service (NMFS), National Oceanic and Atmospheric Administration (NOAA), Commerce.

ACTION: Issuance of permit.

SUMMARY: Notice is hereby given that Paul E. Nachtigall, Ph.D., Director, Marine Mammal Research Program, Hawaii Institute of Marine Biology, University of Hawaii, P.O. Box 1106, Kailua, Hawaii 96734, has been issued a permit to conduct scientific research on three captive bottlenose dolphins (Tursiops truncatus) and one captive false killer whale (Pseudorca crassidens) for scientific research.

ADDRESSES: The permit and related documents are available for review upon written request or by appointment in the following offices:

Permits Division, Office of Protected Resources, NMFS, 1315 East-West Highway, Room 13130, Silver Spring, MD 20910 (301/713-2289);

Regional Administrator, Southwest Region,501 West Ocean Boulevard, Suite 4200, Long Beach, California 90802-4213, (562/980-4000); and

Protected Resources Program Manager, Pacific Islands Area Office, 1601 Kapiolani Boulevard, Suite 1110, Honolulu, Hawaii 96814-4700, (808/973-2937).

FOR FURTHER INFORMATION CONTACT: Jeannie Drevenak at 301/713-2289.

SUPPLEMENTARY INFORMATION: On April 25, 2000, notice was published in the Federal Register (65 FR 24186) that a request was received for a scientific research permit on three (3) captive bottlenose dolphins (Tursiops truncatus) and one (1) captive false killer whale (Pseudorca crassidens) for studies on the hearing and echolocation processes in odontocete cetaceans. The research will occur over a five year period. The requested permit has been issued under the authority of the Marine Mammal Protection Act of 1972, as amended (16 U.S.C. 1361 et seq.) and the Regulations Governing the Taking and Importing of Marine Mammals (50 CFR part 216), the Endangered Species Act of 1973, as amended (16 U.S.C. 1531 et seq.).

Dated: July 17, 2000.
Ann D. Terbush,
Chief, Permits and Documentation Division, Office of Protected Resources, National Marine Fisheries Service.

[FR Doc. 00-18565 Filed 7-20-00; 8:45 am]

BILLING CODE 3510-22-F